FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 010071-036.

Title: Cruise Lines International Association Agreement.

Parties: AMA Waterways; American Cruise Lines, Inc.; Azamara Cruises; Carnival Cruise Lines; Celebrity Cruises, Inc.; Costa Cruise Lines; Crystal Cruises; Cunard Line; Disney Cruise Line; Holland America Line; Hurtigruten, Inc.; Majestic America Line; MSC Cruises; NCL Corporation; Oceania Cruises; Orient Lines; Princess Cruises; Regent Seven Seas Cruises; Royal Caribbean International; Seabourn Cruise Line; SeaDream Yacht Club; Silversea Cruises, Ltd.; Uniworld River Cruises, Inc.; and Windstar Cruises.

Filing Party: Terry Dale, President; Cruise Lines International Association, Inc., 910 SE. 17th Street, Suite 400, Fort Lauderdale, FL 33316.

Synopsis: This corrects an earlier notice that appeared on September 23, 2009, to reflect Pearl Seas Cruises as an additional party to the agreement.

Agreement No.: 010982-047.

Title: Florida-Bahamas Shipowners and Operators Association.

Parties: Bernuth Lines, Ltd.; Crowley Caribbean Services LLC/Crowley Liner Services, Inc.; Seaboard Marine, Ltd.; and Seafreight Line, Ltd.

Filing Party: Wayne R. Rohde, Esq., Sher & Blackwell LLP, 1850 M Street, NW., Suite 900, Washington, DC 20036.

Synopsis: The amendment removes Atlantic Caribbean Line, Inc. as a party to the agreement.

Dated: October 2, 2009.
By Order of the Federal Maritime Commission.
Karen V. Gregory,
Secretary.

[FR Doc. E9-24238 Filed 10-6-09; 8:45 am]

BILLING CODE P